DEPARTMENT OF HEALTH AND HUMAN SERVICES

National Institutes of Health

Establishment of the Aging and Neurodegeneration Integrated Review Group

Pursuant to the Federal Advisory Committee Act, as amended (5 U.S.C. 1001-1014), the Director, National Institutes of Health (NIH) announces the establishment of the Aging and Neurodegeneration Integrated Review Group (IRG) as authorized by 42 U.S.C. 282(b)(16), section 402(b)(16) of the Public Health Service Act, as amended.

The Director, NIH, has determined that the Aging and Neurodegeneration IRG is in the public interest in connection with the performance of duties imposed on NIH by law, and that these duties can best be performed through the advice and counsel of the committee.

This committee provides advice and recommendations on funding applications and proposals, including but not limited to, the scientific and technical merit of applications for grants-in-aid for research, research training, or research-related grants and cooperative agreements, or contract proposals relating to scientific areas relevant to aging and neurodegeneration.

Inquiries may be directed to Claire Harris, Director, Office of Federal Advisory Committee Policy, Office of the Director, National Institutes of Health, 6701 Democracy Boulevard, Suite 1000, Bethesda, Maryland 20892 (Mail code 4875), Telephone (301) 496-2123, or Claire.Harris@nih.gov.

Dated: June 13, 2023.
Lawrence A. Tabak,
Acting NIH Director, National Institutes of Health.

[FR Doc. 2023-12987 Filed 6-15-23; 8:45 am]

BILLING CODE 4140-01-P